DEPARTMENT OF HEALTH AND HUMAN SERVICES

Administration for Community Living

[OMB# 0985-0008]

Agency Information Collection Activities; Proposed Collection; Comment Request; State Program Report

AGENCY: Administration for Community Living, HHS.

ACTION: Notice.

SUMMARY: The Administration for Community Living (ACL) is announcing an opportunity for the public to comment on the proposed collection of information listed above. Under the Paperwork Reduction Act of 1995 (the PRA), Federal agencies are required to publish a notice in the Federal Register concerning each proposed collection of information, including each proposed extension of an existing collection of information, and to allow 60 days for public comment in response to the notice.

This notice solicits comments on the Proposed Revision for the information collection requirements related to State Program Report.

DATES: Comments on the collection of information must be submitted electronically by 11:59 p.m. (EST) or postmarked by October 29, 2019.

ADDRESSES: Submit electronic comments on the collection of information to: Susan.Jenkins@acl.hhs.gov. Submit written comments on the collection of information to: U.S. Department of Health and Human Services: Administration for Community Living, Washington, DC 20201, Attention: Susan Jenkins.

FOR FURTHER INFORMATION CONTACT: Susan Jenkins, Director, Office of Performance and Evaluation Administration for Community, Washington, DC 20201, Phone: (202) 795-7369, Email: Susan.Jenkins@acl.hhs.gov.

SUPPLEMENTARY INFORMATION: Under the PRA (44 U.S.C. 3501-3520), Federal agencies must obtain approval from the Office of Management and Budget (OMB) for each collection of information they conduct or sponsor. “Collection of information” includes agency requests or requirements that members of the public submit reports, keep records, or provide information to a third party. The PRA requires Federal agencies to provide a 60-day notice in the Federal Register concerning each proposed collection of information, including each proposed extension of an existing collection of information, before submitting the collection to OMB for approval. To comply with this requirement, ACL is publishing a notice of the proposed collection of information set forth in this document.

With respect to the following collection of information, ACL invites comments on our burden estimates or any other aspect of this collection of information, including:

(1) Whether the proposed collection of information is necessary for the proper performance of ACL's functions, including whether the information will have practical utility;

(2) the accuracy of ACL's estimate of the burden of the proposed collection of information, including the validity of the methodology and assumptions used to determine burden estimates;

(3) ways to enhance the quality, utility, and clarity of the information to be collected; and

(4) ways to minimize the burden of the collection of information on respondents, including through the use of automated collection techniques when appropriate, and other forms of information technology.

ACL is requesting approval from OMB to continue collecting data after expiration on 12/31/2019. This is a revision request to the 2016 approved version of the Reporting Requirements for Title III and VII State Program Report Definitions. The currently approved version of the State Program Report (SPR) includes language intended for usage in FY 2023. Since these data elements are not required for usage until FY 2023, under the Paperwork Reduction Act ACL is required to update the information collection (IC) to contain only the language and requirements for collection years 2020-2023. Removing the proposed FY 2023 language from the currently approved SPR causes a revision to OMB 0985-0008. ACL intends to seek OMB approval under a new OMB control number for the FY 2023-2026 data elements allowing usage of 0985-0008 until the new IC is approved and ready for usage.

The Older Americans Act (OAA) requires annual program performance reports from States, the District of Columbia, and Territories. In compliance with this OAA provision, ACL developed a SPR in 1996 as part of its National Aging Program Information System (NAPIS). The SPR collects information about how State Agencies on Aging expend their OAA funds as well as funding from other sources for OAA authorized supportive services. The SPR also collects information on the demographic and functional status of the recipients, and is a key source for ACL performance measurement. The information submitted by Title III grantees is AoA's principle source for data and information on programs and services funded under the Older Americans Act (OAA). The SPR serves as the Program Performance Report for the state grantees to meet their annual grantee reporting requirements and includes the data required by the OAA be reported in the AoA Annual Report to Congress. This IC is summary data of services for seniors provided or managed by State Units on Aging (SUA) and Area Agencies on Aging (AAA). Data is submitted annually by the 50 states, four Territories (American Samoa, Guam, Puerto Rico, and Virgin Islands), and Washington, DC. The SPR includes information on the number of people served, the number of units of specific services, Title III expenditures, total expenditures, number of state and local staff, number of providers, and major accomplishments.

Data from the SPR are the primary source for performance measures in the Congressional budget justification, the HHS Annual Performance Plan and Report as well as the Annual Report to Congress.

AoA also uses the data to respond to inquiries from stakeholders, the public, press, program and policy decision makers. Information from the most recent SPR is available on-line on the Aging Integrated Database (AGID). Results are available annually.

The proposed FY 2020 version posts on the ACL website link entitled Proposed State Program Report (SPR) Form 2020 Revision available at https://acl.gov/programs/performance-older-americans-act-programs

For review and comment on this proposed information collection request, please visit the ACL website https://www.acl.gov/about-acl/public-input.

Estimated Program Burden

ACL estimates the burden associated with this collection of information as follows: 2,750 annual burden hours.

Respondent/data collection activity | Number of respondents | Responses per respondent | Hours per response | Annual burden hours
SPR | 55 | 1 | 50 | 2,750
Total | 55 | 1 | 50 | 2,750

Dated: August 20, 2019.
Mary Lazare,
Principal Deputy Administrator.

[FR Doc. 2019-18842 Filed 8-29-19; 8:45 am]

BILLING CODE 4154-01-P